ENVIRONMENTAL PROTECTION AGENCY

[ER-FRL-9027-6]

Environmental Impact Statements; Notice of Availability

Responsible Agency: Office of Federal Activities, General Information (202) 564-7146 or http://www2.epa.gov/nepa.

Weekly receipt of Environmental Impact Statements (EISs).

Filed 06/06/2016 Through 06/10/2016.

Pursuant to 40 CFR 1506.9.

Notice

Section 309(a) of the Clean Air Act requires that EPA make public its comments on EISs issued by other Federal agencies. EPA's comment letters on EISs are available at: http://www.epa.gov/compliance/nepa/eisdata.html.

EIS No. 20160135, Draft, NOAA, FL, Amendment 37 to the Fishery Management Plan for the Snapper-Grouper Fishery of the South Atlantic Region, Modification to the Hogfish Fishery Management Unit, Fishing Level Specifications for the Two South Atlantic Hogfish Stocks, Rebuilding Plan for the Florida Keys/East Florida Stock, and Establishment/Revision of Management Measures for Both Stocks, Comment Period Ends: 08/01/2016, Contact: Nikhil Mehta 727-551-5098.

EIS No. 20160136, Final, USACE, PA, Upper Ohio Navigation Study, Review Period Ends: 07/18/2016, Contact: Conrad Weiser 412-395-7314.

EIS No. 20160137, Final, USACE, FL, Southern Palm Beach Island Comprehensive Shoreline Stabilization Project, Review Period Ends: 07/18/2016, Contact: Krista Sabin 561-472-3529.

Amended Notices

EIS No. 20160096, Draft, USFWS, CA, Lower Klamath, Clear Lake, Tule Lake, Upper Klamath, and Bear Valley National Wildlife Refuges Draft Comprehensive Conservation Plan, Comment Period Ends: 08/04/2016, Contact: Mark Pelz 916-414-6464 Revision to FR Notice Published 05/06/2016, Extending Comment Period from 06/20/2016 to 08/04/2016.

EIS No. 20160114, Final, FHWA, TX, Grand Parkway (State Highway 99) Segment B, Review Period Ends: 07/11/2016, Contact: Carlos Swonke 512-416-2734 Revision to FR Notice Published 06/03/2016; Correction to the Review Period to end 07/11/2016.

Dated: June 14, 2016.
Dawn Roberts,
Management Analyst, NEPA Compliance Division, Office of Federal Activities.

[FR Doc. 2016-14404 Filed 6-16-16; 8:45 am]

BILLING CODE 6560-50-P